FEDERAL EMERGENCY MANAGEMENT AGENCY

Pre-Disaster Mitigation Program

AGENCY: Federal Insurance and Mitigation Administration, Federal Emergency Management Agency (FEMA).

ACTION: Notice of availability of Pre-Disaster Mitigation grants.

SUMMARY: FEMA gives notice of the availability of grants for fiscal year (FY) 2002 under the Pre-Disaster Mitigation (PDM) Program as authorized by section 203 of the Robert T. Stafford Disaster Relief and Emergency Assistance Act (Stafford Act), 42 USC 5133, as amended by section 102 of the Disaster Mitigation Act of 2000 (DMA), Public Law 106-390, 114 Stat. 1552. No State shall receive less than one percent of the $25M appropriated in FY 2002, as specified in section 203(f) of the Stafford Act for eligible State, local, and tribal activities. FEMA will contribute up to 75 percent of the cost of activities approved for funding. At least 25 percent of the total eligible costs must be provided from a nonfederal source. Grants awarded to small and impoverished communities may receive a Federal cost share of up to 90 percent of the total cost to implement eligible PDM activities. A Small and Impoverished Community must meet all of the following criteria:

• It must be a community of 3,000 or fewer individuals that is identified by the State as a rural community, and is not a remote area within the corporate boundaries of a larger city;

• It must be economically disadvantaged, with residents having an average per capita annual income not exceeding 80 percent of national per capita income, based on best available data;

• It must have a local unemployment rate that exceeds by one percentage point or more, the most recently reported, average yearly national unemployment rate; and

• It must meet any other factors identified in the State Plan in which the community is located.

DATES: States are requested to submit a letter of intent to the appropriate FEMA Regional Director by March 30, 2002, including a list of communities they are targeting (i.e., identify potential sub-grantees). States must submit a grant application and their assessment of the extent to which communities meet the criteria outlined in section 203(g) of the Stafford Act to the appropriate FEMA Regional Office by June 30, 2002.

ADDRESSES: FEMA Regional Offices:

Serving the State of Maine, State of New Hampshire, State of Vermont, State of Rhode Island, State of Connecticut, and the Commonwealth of Massachusetts:

FEMA Region I

442 J.W. McCormack POCH, Boston, MA 02109-4595.

Serving the State of New York, State of New Jersey, the Commonwealth of Puerto Rico and the Territory of the U.S. Virgin Islands:

FEMA Region II

26 Federal Plaza, Rm. 1337, New York, NY 10278-0002.

Serving the District of Columbia, Delaware, Maryland, Pennsylvania, Commonwealth of Virginia, and West Virginia:

FEMA Region III

1 Independence Mall, 6th Floor, 615 Chestnut Street, Philadelphia, PA 19106-4404.

Serving the States of Alabama, Florida, Georgia, Kentucky, Mississippi, North Carolina, South Carolina and Tennessee:

FEMA Region IV

3003 Chamblee Tucker Road, Atlanta, GA 30341.

Serving the States of Illinois, Indiana, Michigan, Minnesota, Ohio and Wisconsin:

FEMA Region V

536 S. Clark Street, 6th Floor, Chicago, IL 60605.

Serving the States of Arkansas, Louisiana, New Mexico, Oklahoma and Texas:

FEMA Region VI

FRC 800 North Loop 288, Denton, TX 76201-3698.

Serving Iowa, Kansas, Missouri, and Nebraska:

FEMA Region VII

2323 Grand Avenue, Suite 900, Kansas City, MO 64108.

Serving Colorado, Montana, North Dakota, South Dakota, Utah, and Wyoming:

FEMA Region VIII

Denver Federal Center, Building 710, Box 25267, Denver, CO 80225-0267.

Serving the States of Arizona, California, Hawaii and Nevada; and the Territory of American Samoa, the Territory of Guam, the Commonwealth of the Northern Mariana Islands, the Republic of the Marshall Islands, the Federated States of Micronesia, and the Republic of Palau:

FEMA Region IX

Building 105, Presidio of San Francisco, San Francisco, CA 94129-1250.

Serving the States of Alaska, Idaho, Oregon and Washington:

FEMA Region X

Federal Regional Center, 130 228th Street, SW, Bothell, WA 98021-979.

FOR FURTHER INFORMATION CONTACT: Margaret Lawless, Program Planning and Delivery Division, Federal Insurance and Mitigation Administration, FEMA, 500 C Street, SW., Room 401, Washington, DC 20472, (202) 646-3027 or e-mail: Margaret.Lawless@fema.gov.

SUPPLEMENTARY INFORMATION:

Appropriations

Under Public Law 107-73, 115 Stat. 651, Departments of Veterans Affairs and Housing and Urban Development, and Independent Agencies Appropriations Act, 2002, we are issuing a Request for Application (RFA) to implement the PDM Program.

Background

The PDM program provides funding for cost-effective hazard mitigation activities that complement comprehensive mitigation programs, reduce injuries, loss of life, and damage and destruction of property.

Section 203 of the Stafford Act provided a deadline of October 1, 2001 for States' submittal of recommendations for eligible communities to receive assistance. Since the president's budget request for FY 2002 did not include funding for the program, FEMA did not feel that it was appropriate to request the States to recommend communities for assistance. FEMA has notified Congress that the deadline was not applied because enactment of FEMA's appropriations came after the deadline.

It is anticipated that proposed program regulations will be available in 2002 and should be effective for next year's (FY 2003) PDM grants. Pending publication of our program regulations, we encourage States to focus their applications, including applications from local governments and tribes (sub-grantees), on the development of local mitigation plans or on cost-effective “brick and mortar” projects in communities where plans have already been developed. For FY 2002 funds, awards will be governed by section 203 of the Stafford Act, this notice, and program guidance, which will be made available to the public on the FEMA Internet site: www.fema.gov.

Applicant Eligibility

A State or Indian tribal government is eligible to apply for assistance as a grantee.

A local government or Indian tribal government is eligible to apply to the grantee for assistance as a sub-grantee. In order for flood prone communities to receive funds, applicants must be NFIP-participating communities (if they have been mapped through the NFIP) and must be in good standing (not on probation or suspension).

Grant Application Process

Local governments should consult the official designated point of contact in their State for more information on the process the State requires to be followed in applying for assistance.

To apply for this grant, States are requested to submit a letter to the Regional Director expressing their intent to participate in the PDM Program for FY 2002. The letter must also include a list of which communities they are targeting (i.e., identify potential sub-grantees) based on a State prioritization that takes into consideration relevant criteria under section 203(g) of the Stafford Act.

States must complete and submit to the appropriate FEMA Regional Office a grant application, which can be obtained from the FEMA Regional Office. The grant application should include:

• Application for Federal Assistance, Standard Form 424;

• Budget Information—Non-Construction Program, FEMA Form 20-20;

• Summary Sheet for Assurances and Certification, FEMA Form 20-16;

• Assurances—Non-Construction Program, FEMA Form 20-16A;

• Certification Regarding Lobbying; Debarment, Suspension and Other Responsible

• Matters; and Drug-Free Workplace Requirements, FEMA Form 20-16C;

• Disclosure of Lobbying Activities, Standard Form LLL; and,

• Program Narrative identifying the activities for which funding is requested.

The State should prioritize activities included in their Program Narrative taking into consideration relevant criteria under section 203(g) of the Stafford Act. Mitigation projects should be ranked beginning with those that are most cost effective, consistent with OMB Circular A-94, Guidelines and Discount Rates for Benefit-Cost Analysis of Federal Programs. However, consideration should be made to complete mitigation projects within a geographic area when possible. In this case, supporting documentation should be submitted with the application. The Program Narrative should include the following:

• Individual activity location and name of sub-grantee;

• Activity title and number;

• Individual activity costs, including Federal and nonfederal shares;

• Activity specific scopes of work, including a list of properties, if applicable;

• Recommendations and documentation regarding the environmental review required by 44 Code of Federal Regulations (CFR) part 10, Environmental Considerations, and other applicable laws and executive orders; and

• Certification that the State has evaluated the included projects, they meet all PDM Program eligibility criteria, and the projects will be implemented in accordance with 44 CFR part 13, Uniform Administrative Requirements for Grants and Cooperative Agreements to State and Local Governments.

• State's assessment of the extent to which communities meet the relevant criteria under section 203(g) of the Stafford Act.

Eligible Activities

44 CFR part 201, Hazard Mitigation Planning, establishes new criteria for State and local hazard mitigation planning, pursuant to section 322 of the Stafford Act, which will require local governments and Indian tribal governments applying for PDM funds through the States to have an approved local mitigation plan prior to the approval of mitigation project grants after November 1, 2003. Therefore, we encourage States to focus their FY 2002 PDM funding on the development of State and local multi-hazard mitigation plans in order to meet this future requirement. This may include developing countywide or multi-jurisdictional plans (must be adopted by all jurisdictions included), since many issues are better resolved by evaluating hazards in a more comprehensive fashion. Eligible activities under this grant are:

• Management costs. Grantees may use up to $50,000 of their PDM funds to assist in soliciting and reviewing PDM applications and for providing technical assistance to sub-applicants.

• Information dissemination. Up to 10 percent of the funds awarded to States may be used to disseminate information regarding cost-effective mitigation technologies, such as marketing, outreach, training and education.

• Planning. PDM funds may be used to develop State, tribal, and local multi-hazard (to include man-made) mitigation plans which meet the planning criteria outlined in 44 CFR part 201.

• Technical assistance. Sub-grantee activities to support the development of comprehensive project applications are eligible.

• Mitigation projects. A mitigation project is any action that results in elimination or long-term reduction of damages to public or private property from natural hazards, and may include property acquisition or relocation, consistent with 44 CFR 206.434(e) and related guidance; structural and non-structural retrofitting; minor structural hazard control or protection projects; and, localized flood control projects. Mitigation projects must also meet the following general criteria:

(1) Be in conformance with an existing FEMA-approved State hazard mitigation plan;

(2) Be in conformance with 44 CFR part 9, Floodplain Management and Protection of Wetlands, and 44 CFR part 10, consistent with 44 CFR part 206, subpart N, Hazard Mitigation Grant Program, section 434(b)(3);

(3) Solve a problem independently or constitute a functional portion of a solution where there is assurance that the project as a whole will be completed, consistent with 44 CFR 206.434(c)(4);

(4) Be cost-effective and substantially reduce the risk of future damage, hardship, loss, or suffering resulting from a major disaster, consistent with 44 CFR 206.434(c)(5) and related guidance;

(5) Not duplicate the assistance that another Federal agency or program has the primary authority to provide, consistent with 44 CFR 206.434(g);

(6) Be located physically in a participating NFIP community that is not on probation or suspended (if the community has been mapped through the NFIP); and,

(7) Meet the requirements of applicable Federal, State, and local laws.

Reporting Requirements

The States are required to submit quarterly financial and performance reports 30 days after the end of each quarter, per 44 CFR 13.40 and 41. Reporting dates are: January 30, April 30, July 30, and October 30. The performance reports will provide a comparison of actual accomplishments to the objectives approved for the period. Where the output of the project can be quantified, that information shall be provided. The States must also report the progress of each sub-grantee award in their quarterly reports. In addition, final financial and performance reports are required 90 after the close of the grant, per 44 CFR 13.50.

Dated: March 5, 2002.
Robert F. Shea,
Deputy Administrator for Mitigation, Federal Insurance and Mitigation Administration.

[FR Doc. 02-5832 Filed 3-11-02; 8:45 am]

BILLING CODE 6718-04-P